FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than November 24, 2000.

A. Federal Reserve Bank of Chicago (Phillip Jackson, Applications Officer) 230 South LaSalle Street, Chicago, Illinois 60690-1414:

1. Mid-Iowa BancShares, Co., Algona, Iowa; to merge with Ruthven Investment, Ltd., Ruthven, Iowa, and thereby indirectly acquire voting shares of Ruthven State Bank, Ruthven, Iowa.

2. First Bancorp of Taylorville, Inc., Taylorville, Illinois; to acquire 100 percent of the voting shares of The First National Bank of Mt. Auburn, Mt. Auburn, Illinois.

B. Federal Reserve Bank of San Francisco (Maria Villanueva, Consumer Regulation Group) 101 Market Street, San Francisco, California 94105-1579:

1. Humboldt Bancorp, Eureka, California; to merge with Tehama Bancorp, Red Bluff, California, and thereby indirectly acquire voting shares of Tehama Bank, Red Bluff, California.

2. New Corporation, Oakland, California; to become a bank holding company by acquiring 100 percent of the voting shares of Met Financial Corporation, Oakland, California, and thereby indirectly acquire voting shares of Metropolitan Bank, Oakland, California.

3. UFJ Holdings, Inc. (in formation), Osaka, Japan; to become a bank holding company by acquiring 100 percent of the voting shares of The Sanwa Bank, Limited, Osaka, Japan, and thereby indirectly acquire Sanwa Bank California, San Francisco, California, and The Tokai Bank, Limited, Nagoya, Japan, and thereby acquire Tokai Bank of California, Los Angeles, California.

In connection with this application, Applicant also has applied to acquire Sanwa Financial Products Co., L.L.C, New York, New York, and thereby engage in derivative product transactions as an originator and as a principal, pursuant to § 225.28(b)(7) of Regulation Y; and thereby indirectly acquire Sanwa Futures, L.L.C, Chicago, Illinois, and thereby engage in the execution and clearance, on various futures exchanges, of futures and options contracts, pursuant to § 225.28(b)(7) of Regulation Y; Sanwa Universal Securities Co., L.L.C., New York, New York, and thereby engage in broker dealer activities and to a limited extent, in underwriting and dealing activities, pursuant to § 225.28(b)(7) of Regulation Y; Toyo Trust Company of New York, New York, New York, and thereby engage in trust company activities, pursuant to § 225.28(b)(5) of Regulation Y.

Board of Governors of the Federal Reserve System, October 24, 2000.
Robert deV. Frierson,
Associate Secretary of the Board.

[FR Doc. 00-27675 Filed 10-26-00; 8:45 am]

BILLING CODE 6210-01-P